DEPARTMENT OF COMMERCE

International Trade Administration

U.S. Travel And Tourism Advisory Board: Meeting of the U.S. Travel and Tourism Advisory Board

AGENCY: International Trade Administration, U.S. Department of Commerce.

ACTION: Notice of an open meeting.

SUMMARY: The U.S. Travel and Tourism Advisory Board (Board) will hold a meeting to discuss topics related to the travel and tourism industry.

DATES: April 8, 2010 at 1 p.m. (ET).

ADDRESSES: Department of Commerce, 1401 Constitution Avenue, NW., Room 4830, Washington, DC 20230.

FOR FURTHER INFORMATION CONTACT: J. Marc Chittum, U.S. Travel and Tourism Advisory Board, Room 4043, 1401 Constitution Avenue, NW., Washington, DC 20230, telephone: 202-482-4501, e-mail: Marc.Chittum@trade.gov.

SUPPLEMENTARY INFORMATION:

Background: The Board was re-chartered on September 3, 2009, to advise the Secretary of Commerce on matters relating to the travel and tourism industry.

Topics to be considered: The agenda for the April 8, 2010, meeting is as follows:

1. Welcome & introduction of new members.

2. Discussion of topics related to the travel and tourism industry.

Public Participation: The meeting will be open to the public and the room is disabled-accessible. Public seating is limited and available on a first-come, first-served basis. Members of the public wishing to attend the meeting must notify J. Marc Chittum at the contact information above by 5 p.m. Eastern Time on April 5, 2010, in order to pre-register for clearance into the building. Please specify any requests for reasonable accommodation at least five business days in advance of the meeting. Last minute requests will be accepted, but may be impossible to fill.

No time will be available for oral comments from members of the public attending the meeting. Any member of the public may submit pertinent written comments concerning the Board's affairs at any time before and after the meeting. Comments may be submitted to J. Marc Chittum, Executive Secretary, at the contact information indicated above. To be considered during the meeting, comments must be received no later than 5 p.m. Eastern Time on April 5, 2010, to ensure transmission to the Board prior to the meeting. Comments received after that date will be distributed to the members but may not be considered at the meeting.

Copies of Board meeting minutes will be available within 90 days of the meeting.

Dated: March 18, 2010.
J. Marc Chittum,
Executive Secretary, U.S. Travel and Tourism Advisory Board.

[FR Doc. 2010-6403 Filed 3-23-10; 8:45 am]

BILLING CODE 3510-DR-P